DEPARTMENT OF THE INTERIOR

U.S. Geological Survey

Notice of U.S. Geological Survey Price Increase for Primary Series Quadrangles, Thematic Maps, National Earthquake Information Center Maps, and Large Format and Poster Maps

SUMMARY: The U.S. Geological Survey will increase prices for their following products:

(1) 7.5 minute 1:20,000-scale, 1:24,000-scale, 1:25,000-scale, 1:63,360-scale, and 7.5 minute × 15 minute 1:25,000-scale, 1:63,360-scale, 1:100,000-scale and 1:250,000-scale primary series quadrangles from $6.00 to $8.00 per quadrangle.

(2) Thematic maps and small scale National Park maps from $7 per sheet to $9 per sheet.

(3) National Earthquake Information Center maps bearing private sector copyright from $10 per sheet to $12 per sheet.

(4) Large format and poster maps from $7 per sheet to $10 per sheet.

Prices for these products were last revised 7 years ago and will be adjusted to accurately reflect and ensure recovery of the costs associated with their reproduction and distribution. These changes are consistent with guidance contained in the Office of Management and Budget (OMB) Circular A-130, concerning management of Federal information resources (Revised Nov. 2000), Circular A-25, establishing Federal policy regarding fees assessed for Government services, which permits government agencies to recover reproduction and distribution costs from the sale of their products.

DATES: The price increase will be effective March 2, 2009. All map orders received by or postmarked before March 2, 2009 will be subject to the current price. On February 2, 2009, the U.S. Geological Survey Business Partners will receive a 30-day advance notification of the impending price increase. Prices listed at http://ask.usgs.gov/prices/faqs_prices_usgs_products.html supersedes all pricing notices previously published.

FOR FURTHER INFORMATION CONTACT: Kip McCarty, Geospatial Information Office, (303) 202-4619 or by e-mail at kmccarty@usgs.gov.

Dated: February 3, 2009.
Stephen E. Hammond,
Acting Chief, Science Information and Education Office.

[FR Doc. E9-2609 Filed 2-6-09; 8:45 am]

BILLING CODE 4311-AM-P